DEPARTMENT OF LABOR

Employment and Training Administration

[TA-W-50,598]

Blandin Paper Co. Including Temporary Workers of Search Resources, Grand Rapids, MN; Amended Certification Regarding Eligibility To Apply for Worker Adjustment Assistance

In accordance with section 223 of the Trade Act of 1974 (19 U.S.C. 2273) the Department of Labor issued a Certification of Eligibility to Apply for Worker Adjustment Assistance on February 13, 2003, applicable to workers of Blandin Paper Company, Grand Rapids, Minnesota. The notice was published in the Federal Register on March 10, 2003 (68 FR 11410).

At the request of a company official, the Department reviewed the certification for workers of the subject firm. Information provided by the company shows that temporary workers of Search Resources were employed at Blandin Paper Company to produce coated magazine paper at the Grand Rapids, Minnesota location of the subject firm.

Based on these findings, the Department is amending this certification to include temporary workers of Search Resources, Grand Rapids, Minnesota employed at Blandin Paper Company, Grand Rapids, Minnesota.

The intent of the Department's certification is to include all workers of Blandin Paper who were adversely affected by the shift in production to Canada and Finland.

The amended notice applicable to TA-W-50,598 is hereby issued as follows:

All workers of Blandin Paper, Grand Rapids, Minnesota including temporary workers of Search Resources, Grand Rapids, Minnesota engaged in employment related to the production of coated magazine paper at Blandin Paper Company, Grand Rapids, Minnesota, who became totally or partially separated from employment on or after January 17, 2002, through February 13, 2005, are eligible to apply for adjustment assistance under Section 223 of the Trade Act of 1974.

Signed at Washington, DC this 26th day of March 2003.
Richard Church,
Certifying Officer, Division of Trade Adjustment Assistance.

[FR Doc. 03-8916 Filed 4-10-03; 8:45 am]

BILLING CODE 4510-30-P